DEPARTMENT OF ENERGY

Federal Energy Regulatory Commission

Combined Notice of Filings #1

Take notice that the Commission received the following electric rate filings:

Docket Numbers: ER12-1155-001.

Applicants: ISO New England Inc.

Description: Notice of Effective Date—ER12-1155-000 to be effective 8/21/2013.

Filed Date: 8/7/13.

Accession Number: 20130807-5079.

Comments Due: 5 p.m. ET 8/28/13.

Docket Numbers: ER13-1734-000.

Applicants: Plainfield Renewable Energy, LLC.

Description: Supplement to June 20, 2013 Plainfield Renewable Energy, LLC tariff filing.

Filed Date: 8/6/13.

Accession Number: 20130806-5158.

Comments Due: 5 p.m. ET 8/16/13.

Docket Numbers: ER13-1865-001.

Applicants: Tesoro Refining & Marketing Company LLC.

Description: Amended Application of Tesoro Refining and Marketing Co LLC to be effective 7/30/2013.

Filed Date: 8/6/13.

Accession Number: 20130806-5195.

Comments Due: 5 p.m. ET 8/27/13.

Docket Numbers: ER13-1991-001.

Applicants: Desert Sunlight 250, LLC.

Description: Amendment to Desert Sunlight 250, LLC MBR Application to be effective 7/18/2013.

Filed Date: 8/7/13.

Accession Number: 20130807-5085.

Comments Due: 5 p.m. ET 8/28/13.

Docket Numbers: ER13-1992-001.

Applicants: Desert Sunlight 300, LLC.

Description: Amendment to Desert Sunlight 300, LLC MBR Application to be effective 7/18/2013.

Filed Date: 8/7/13.

Accession Number: 20130807-5089.

Comments Due: 5 p.m. ET 8/28/13.

Docket Numbers: ER13-2118-000.

Applicants: NedPower Mount Storm, LLC.

Description: Compliance Filing—NedPower MBR Tariff Nuclear Waiver to be effective 8/7/2013.

Filed Date: 8/6/13.

Accession Number: 20130806-5206.

Comments Due: 5 p.m. ET 8/27/13.

Docket Numbers: ER13-2119-000.

Applicants: New York Independent System Operator, Inc.

Description: Request of the New York Independent System Operator, Inc. for a limited, one-time tariff waiver.

Filed Date: 8/6/13.

Accession Number: 20130806-5229.

Comments Due: 5 p.m. ET 8/27/13.

Docket Numbers: ER13-2120-000.

Applicants: Bangor Hydro Electric Company.

Description: Filing of E&P Agreement with First Wind to be effective 8/8/2013.

Filed Date: 8/7/13.

Accession Number: 20130807-5054.

Comments Due: 5 p.m. ET 8/28/13.

Docket Numbers: ER13-2121-000.

Applicants: KASS Commodities.

Description: KASS Commodities LLC Notice of Change in Status to be effective N/A.

Filed Date: 8/7/13.

Accession Number: 20130807-5070.

Comments Due: 5 p.m. ET 8/28/13.

Docket Numbers: ER13-2122-000.

Applicants: Fowler Ridge Wind Farm LLC.

Description: Compliance Filing—Fowler Ridge MBR Tariff Nuclear Waiver to be effective 8/8/2013.

Filed Date: 8/7/13.

Accession Number: 20130807-5080.

Comments Due: 5 p.m. ET 8/28/13.

Docket Numbers: ER13-2123-000.

Applicants: ISO New England Inc., New England Power Pool Participants Committee.

Description: Revisions to Sch. 24 to Comply with Order 676-G Compliance to be effective 10/7/2013.

Filed Date: 8/7/13.

Accession Number: 20130807-5087.

Comments Due: 5 p.m. ET 8/28/13.

Docket Numbers: ER13-2124-000.

Applicants: Midcontinent Independent System Operator, Inc.

Description: 08-07-13 RSG Allocation Improvements to be effective 10/17/2013.

Filed Date: 8/7/13.

Accession Number: 20130807-5101.

Comments Due: 5 p.m. ET 8/28/13.

Docket Numbers: ER13-2125-000.

Applicants: Portland General Electric Company.

Description: Second Revised Volume No. 12 to be effective 9/30/2013.

Filed Date: 8/7/13.

Accession Number: 20130807-5125.

Comments Due: 5 p.m. ET 8/28/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 7, 2013.
Nathaniel J. Davis, Sr.,
Deputy Secretary.

[FR Doc. 2013-19776 Filed 8-14-13; 8:45 am]

BILLING CODE 6717-01-P